DEPARTMENT OF EDUCATION

President's Board of Advisors on Historically Black Colleges and Universities

AGENCY: President's Board of Advisors on Historically Black Colleges and Universities, Department of Education.

ACTION: Notice of an open meeting.

SUMMARY: This notice sets forth the schedule and agenda of the meeting of the President's Board of Advisors on Historically Black Colleges and Universities. The notice also describes the functions of the Board. Notice of the meeting is required by section 10(a)(2) of the Federal Advisory Committee Act and intended to notify the public of its opportunity to attend.

DATES: Thursday, May 22, 2014. Time: 9 a.m.-2 p.m. (EST)

ADDRESSES: U.S. Department of Commerce, National Institute of Standards and Technology, 100 Bureau Drive, Administration Building 101, Lecture Room B, Gaithersburg, MD, 20899-1000, (301) 975-8362.

FOR FURTHER INFORMATION CONTACT: Sedika Franklin, Program Specialist, White House Initiative on Historically Black Colleges and Universities, 400 Maryland Avenue SW., Washington, DC 20204; telephone: (202) 453-5634 or (202) 453-5630, fax: (202) 453-5632.

SUPPLEMENTARY INFORMATION: The President's Board of Advisors on Historically Black Colleges and Universities (the Board) is established by Executive Order 13532 (February 26, 2010). The Board is governed by the provisions of the Federal Advisory Committee Act (FACA), (Pub. L. 92-463; as amended, 5 U.S.C.A., Appendix 2) which sets forth standards for the formation and use of advisory committees. The purpose of the Board is to advise the President and the Secretary of Education (Secretary) on all matters pertaining to strengthening the educational capacity of Historically Black Colleges and Universities (HBCUs).

The Board shall advise the President and the Secretary in the following areas: (i) Improving the identity, visibility, and distinctive capabilities and overall competitiveness of HBCUs; (ii) engaging the philanthropic, business, government, military, homeland-security, and education communities in a national dialogue regarding new HBCU programs and initiatives; (iii) improving the ability of HBCUs to remain fiscally secure institutions that can assist the nation in reaching its goal of having the highest proportion of college graduates by 2020; (iv) elevating the public awareness of HBCUs; and (v) encouraging public-private investments in HBCUs.

Agenda

The Board will receive updates from the Chairman of the President's Board of Advisors on Historically Black Colleges and Universities (HBCUs), the Board's subcommittees (Black Males, Strategy, Science Technology Engineering and Mathematics (STEM), Community Colleges and Aspirational Support) and the Executive Director of the White House Initiative on HBCUs on their respective activities, thus far, during Fiscal Year 2014 including activities that have occurred since the Board's last meeting, which was held on February 25, 2014. In addition, the Board will discuss possible strategies to meet its duties under its charter. Ivory Toldson, Deputy Director of the White House Initiative on HBCUs, will discuss President Obama's My Brother's Keeper Initiative, and Chad Womack, National STEM Director of the UNCF-Merck Fellowship Program will provide information on special initiatives directed at STEM education.

Individuals who will need accommodations for a disability in order to attend the meeting (e.g., interpreting services, assistive listening devices, or material in alternative format) should notify Sedika Franklin, White House Initiative on HBCUs, at (202) 453-5630, no later than Tuesday, May 13, 2014. We will attempt to meet requests for such accommodations after this date, but cannot guarantee their availability. The meeting site is accessible to individuals with disabilities.

An opportunity for public comment is available on Thursday, May 22, 2014, from 1:30 p.m.-2 p.m. Individuals who wish to provide comments will be allowed three to five minutes to speak. Those members of the public interested in submitting written comments may do so by submitting comments to the attention of Sedika Franklin, White House Initiative on Historically Black Colleges and Universities, U.S. Department of Education, 400 Maryland Avenue SW., Washington, DC 20202, by Tuesday, May 13, 2014.

Those members of the public interested in attending any portion of this open meeting must pre-register by submitting their first name, last name and citizenship to the attention of Sedika Franklin, White House Initiative on Historically Black Colleges and Universities, U.S. Department of Education, 400 Maryland Avenue SW., Washington, DC 20202, by Tuesday, May 13, 2014.

Records are kept of all Board proceedings and are available for public inspection at the office of the White House Initiative on Historically Black Colleges and Universities, U.S. Department of Education, 400 Maryland Avenue SW., Washington, DC 20202, Monday through Friday (excluding federal holidays) during the hours of 9 a.m. to 5 p.m.

Electronic Access to the Document: You may view this document, as well as all other documents of this Department published in the Federal Register, in text or Adobe Portable Document Format (PDF) on the Internet at the following site: www.ed.gov/fedregister/index.html. To use PDF you must have Adobe Acrobat Reader, which is available free at this site. If you have questions about using PDF, call the U.S. Government Printing Office (GPO), toll free at 1-866-512-1800 or in the Washington, DC, area at 202-512-1800.

Dated: April 23, 2014.
Jamienne S. Studley,
Acting Under Secretary, U.S. Department of Education.

[FR Doc. 2014-09854 Filed 4-29-14; 8:45 am]

BILLING CODE 4000-01-P